DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before October 18, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

PERMIT NO. TE-092237

Applicant: Michelle Villafranca, Alvord, Texas

Applicant requests a new permit for research and recovery purposes to conduct presence/absence surveys and nest monitoring activities for the black-capped vireo (Vireo atricapillus) and golden-cheeked warbler (Dendroica chrysoparia) within Oklahoma and Texas.

PERMIT NO. TE-030115

Applicant: Bureau of Land Management, Safford Field Office, Safford, Arizona

Applicant requests an amendment to an existing permit to allow educational display and captive propagation of desert pupfish (Cyprinodon macularius).

PERMIT NO. TE-092622

Applicant: Gabriel Valdes, El Paso, Texas

Applicant requests a new permit for research and recovery purposes to conduct presence/absence surveys and nest monitoring activities for the following species within Arizona, California, New Mexico, and Texas: cactus ferruginous pygmy-owl (Glaucidium brasilianum cactorum), California least tern (Sterna antillarum browni), least Bell's vireo (Vireo bellii pusillus), and southwestern willow flycatcher (Empidonax traillii extimus).

PERMIT NO. TE-820022

Applicant: PBS&J, Austin, Texas

Applicant requests an amendment to an existing permit to allow presence/absence surveys for the following species within Arizona, New Mexico, and Texas: cactus ferruginous pygmy-owl (Glaucidium brasilianum cactorum), northern aplomado falcon (Falco femoralis septentrionalis), southwestern willow flycatcher (Empidonax traillii extimus), and Yuma clapper rail (Rallus longirostris yumanensis).

PERMIT NO. TE-092934

Applicant: James Montgomery. Jr., Roswell, New Mexico

Applicant requests a new permit for research and recovery purposes to conduct presence/absence surveys and nest monitoring activities for the interior least tern (Sterna antillarum) within New Mexico.

PERMIT NO. TE-092933

Applicant: Eric White. Boulder City, Nevada

Applicant requests a new permit for research and recovery purposes to conduct in situ feeding, staging, and spawning studies for the bonytail chub (Gila elegans) and razorback sucker (Xyrauchen texanus) within Arizona and Nevada.

Authority: 16 U.S.C. 1531, et seq.

Dated: September 7, 2004.
Susan Detwiler,
Acting Assistant Regional Director, Ecological Services, Region 2, Albuquerque, New Mexico.

[FR Doc. 04-20877 Filed 9-15-04; 8:45 am]

BILLING CODE 4310-55-P